ENVIRONMENTAL PROTECTION AGENCY

[FRL-9787-9]

Request for Nominations of Experts for a Science Advisory Board Panel To Review EPA's Draft Science Synthesis Report on the Connectivity of Streams and Wetlands to Downstream Waters

AGENCY: Environmental Protection Agency (EPA).

ACTION: Notice.

SUMMARY: The EPA Science Advisory Board (SAB) Staff Office requests public nominations of scientific experts to form an SAB panel to review the Agency's draft science synthesis report on the connectivity of streams and wetlands to downstream waters.

DATES: Nominations should be submitted by March 29, 2013 per the instructions below.

FOR FURTHER INFORMATION CONTACT: Any member of the public wishing further information regarding this Notice and Request for Nominations may contact Dr. Thomas Armitage, Designated Federal Officer (DFO), SAB Staff Office, by telephone/voice mail at (202) 564-2155, by fax at (202) 565-2098, or via email at armitage.thomas@epa.gov. General information concerning the EPA SAB can be found at the EPA SAB Web site at http://www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies. The EPA's Office of Research and Development (ORD) is developing a draft report synthesizing the peer-reviewed scientific literature pertaining to biological, chemical, and hydrologic connectivity of waters, and the effects that small streams, wetlands, and open waters have on larger downstream waters such as rivers, lakes, estuaries, and oceans. ORD has asked the SAB to conduct a peer review of the agency's draft report. The SAB Staff Office is forming an expert panel under the auspices of the Chartered SAB to conduct this review.

Technical Contact for EPA's Draft Report: For information concerning the EPA draft report, please contact Dr. Laurie Alexander, National Center for Environmental Assessment, Office of Research and Development, U.S. EPA, 1200 Pennsylvania Avenue NW., Mail Code 8623P, Washington, DC 20460, phone (703) 347-8630 or via email at alexander.laurie@epa.gov.

Request for Nominations: The SAB Staff Office requests nominations of recognized experts in one or more of the following disciplines: (a) Hydrologists, geologists, and fluvial geomorphologists with expertise in the hydrology and formation of large rivers, small streams, wetlands, surface-groundwater interactions, sediment transport, or hydrologic connectivity of waters; (b) ecologists with expertise in stream ecology or wetland ecology, particularly with respect to freshwater stream-wetland connectivity, or wetland ecosystem function; (c) biologists with expertise in population dynamics and dispersal of freshwater organisms, fisheries, aquatic entomology, amphibian biology, or the biologic connectivity of freshwater systems; and (d) water chemists and biogeochemists with expertise in nutrient dynamics or pollutant fate and transport in watersheds.

Process and Deadline for Submitting Nominations: Any interested person or organization may nominate qualified individuals in the areas of expertise described above for possible service on this expert panel. Nominations should be submitted in electronic format (preferred over hard copy) following the instructions for “Nominating Experts to Advisory Panels and Ad Hoc Committees Being Formed,” provided on the SAB Web site. The instructions can be accessed through the “Nomination of Experts” link on the blue navigational bar at the SAB Web site http://www.epa.gov/sab. To receive full consideration, nominations should include all of the information requested below. EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Dr. Thomas Armitage, DFO, as indicated above in this notice. Nominations should be submitted in time to arrive no later than March 29, 2013. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a lack of impartiality; (e) skills working in committees, subcommittees and advisory panels; and, (f) for the panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which include membership on an EPA federal advisory committee) and private interests and activities, or the appearance of a lack of impartiality, as defined by federal regulation. The form may be viewed and downloaded from the following URL address http://yosemite.epa.gov/sab/sabproduct.nsf/Web/ethics?OpenDocument.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: February 25, 2013.
Thomas H. Brennan,
Deputy Director, Science Advisory Board Staff Office.

[FR Doc. 2013-05500 Filed 3-7-13; 8:45 am]

BILLING CODE 6560-50-P